DEPARTMENT OF HOMELAND SECURITY

Notice of Adjustment of Disaster Grant Amounts

AGENCY: Federal Emergency Management Agency, DHS.

ACTION: Notice.

SUMMARY: FEMA gives notice of a decrease of the maximum amount for Small Project Grants to State and local governments and private nonprofit facilities for disasters declared on or after October 1, 2009.

DATES: Effective Date: October 1, 2009, and applies to major disasters declared on or after October 1, 2009.

FOR FURTHER INFORMATION CONTACT: James A. Walke, Disaster Assistance Directorate, Federal Emergency Management Agency, 500 C Street, SW., Washington, DC 20472, (202) 646-3834.

SUPPLEMENTARY INFORMATION: The Robert T. Stafford Disaster Relief and Emergency Assistance Act (the Stafford Act), 42 U.S.C. 5121-5207, prescribes that FEMA must annually adjust the maximum grant amount made under section 422, Small Project Grants, Simplified Procedure, relating to the Public Assistance program, to reflect changes in the Consumer Price Index for All Urban Consumers published by the Department of Labor.

FEMA gives notice of a decrease of the maximum amount of any Small Project Grant made to the State, local government, or to the owner or operator of an eligible private nonprofit facility, under section 422 of the Stafford Act, to $63,200 for all disasters declared on or after October 1, 2009.

FEMA bases the adjustment on a decrease in the Consumer Price Index for All Urban Consumers of 1.5 percent for the 12-month period ended in August 2009. The Bureau of Labor Statistics of the U.S. Department of Labor released the information on September 16, 2009.

(Catalog of Federal Domestic Assistance No. 97.036, Public Assistance Grants.)

W. Craig Fugate,
Administrator, Federal Emergency Management Agency.

[FR Doc. E9-24069 Filed 10-5-09; 8:45 am]

BILLING CODE 9110-10-P